DEPARTMENT OF DEFENSE

Office of the Secretary

[Docket ID: DOD-2008-OS-0043]

Proposed Collection; Comment Request

AGENCY: Office of the Under Secretary of Defense (Personnel and Readiness), DoD.

ACTION: Notice.

In compliance with section 3506(c)(2)(A) of the Paperwork Reduction Act of 1995, the Office of the Under Secretary of Defense (Personnel and Readiness) announces the following proposed new public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by July 1, 2008.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) (Military Personnel Policy/Accession Policy), Attn: Dr. Jane Arabian, 4000 Defense Pentagon, Washington, DC 20301-4000 or call at (703) 697-9271.

Title and OMB Control Number: Utility of Test Preparation Guides and Education Programs in Enhancing Recruit Candidate Performance on the Armed Services Vocational Aptitude Battery (ASVAB), OMB Number 0704-TBD.

Needs and Uses: The 2007 National Defense Authorization Act (NDAA), section 546, directs the Secretary of Defense to conduct a test of the utility of test preparation guides in enhancing recruit candidate performance on the Armed Services Vocational Aptitude Battery (ASVAB). The ASVAB is a cognitive ability test used to select and classify applicants for enlistment into the U.S. military. This information data collection is needed to meet the following objectives, as stated in the NDAA, to examine: The degree to which test preparation assistance degrades test reliability and accuracy, the degree to which test preparation assistance allows more accurate testing of skill aptitudes and mental capability, and to recommend a role for test preparation assistance in military recruiting.

Affected Public: Individuals or households.

Annual Burden Hours: 33,350.

Number of Respondents: 145,000.

Responses per Respondent: 1 or 2.

Average Burden per Response: 12 minutes.

Frequency: On occasion.

SUPPLEMENTARY INFORMATION:

Summary of Information Collection

The 2007 National Defense Authorization Act (NDAA), section 546, directs the Secretary of Defense to conduct a test of the utility of test preparation guides in enhancing recruit candidate performance on the Armed Services Vocational Aptitude Battery (ASVAB). The instrument used to collect the information is the ASVAB Preparation Questionnaire, which covers: (a) ASVAB test taking history, (b) ASVAB preparation behaviors, (c) academic history, and (d) language spoken and education level of parents. The potential respondent universe consists of all military applicants who complete the ASVAB when taken at Military Entrance Processing Stations (MEPS) and Military Entrance Testing Sites (METS). The questionnaire will be administered immediately after the applicant completes the ASVAB. Computer administration will be used in the MEPS and paper and pencil in the METS. The information collected will be used for program planning, and to compile the congressionally-mandated report.

Dated: April 23, 2008.
Patricia L. Toppings,
OSD Federal Register Liaison Officer, Department of Defense.

[FR Doc. E8-9715 Filed 5-1-08; 8:45 am]

BILLING CODE 5001-06-P